DEPARTMENT OF DEFENSE

GENERAL SERVICES ADMINISTRATION

NATIONAL AERONAUTICS AND SPACE ADMINISTRATION

48 CFR Parts 2, 3, and 52

[FAR Case 2006-007; Docket 2007-0001; Sequence 1; FAR Case 2006-007, Contractor Code of Ethics and Business Conduct]

RIN 9000-AK67

Federal Acquisition Regulation; FAR Case 2006-0007, Contractor Code of Ethics and Business Conduct; Reopening of Comment Period

AGENCIES: Department of Defense (DoD), General Services Administration (GSA), and National Aeronautics and Space Administration (NASA).

ACTION: Proposed rule; Reopening of comment period.

SUMMARY: The Civilian Agency Acquisition Council and the Defense Acquisition Regulations Council (Councils) are proposing to amend the Federal Acquisition Regulation (FAR) to address Contractor Code of Ethics and Business Conduct and the display of Federal agency Office of the Inspector General (OIG) Fraud Hotline Poster. The comment period is extended an additional 30 days to provide additional time for interested parties to review the proposed FAR changes.

DATES: Interested parties should submit comments in writing on or before May 23, 2007 to be considered in the formulation of a proposed rule.

ADDRESSES: Submit comments identified by FAR case 2006-007 by any of the following methods:

• Federal eRulemaking Portal: http://www.regulations.gov. Search for any document by first selecting the proper document types and selecting “Federal Acquisition Regulation” as the agency of choice. At the “Keyword” prompt, type in the FAR case number (for example, FAR Case 2006-007) and click on the “Submit” button. Please include any personal and/or business information inside the document.You may also search for any document by clicking on the “Advanced search/document search” tab at the top of the screen, selecting from the agency field “Federal Acquisition Regulation”, and typing the FAR case number in the keyword field. Select the “Submit” button.

• Fax: 202-501-4067.

• Mail: General Services Administration, Regulatory Secretariat (VIR), 1800 F Street, NW., Room 4035, ATTN: Laurieann Duarte, Washington, DC 20405.

Instructions: Please submit comments only and cite FAR case 2006-007 in all correspondence related to this case. All comments received will be posted without change to http://www.regulations.gov, including any personal and/or business confidential information provided.

FOR FURTHER INFORMATION CONTACT: Mr. Ernest Woodson, Procurement Analyst, at (202) 501-3775 for clarification of content. For information pertaining to status or publication schedules, contact the FAR Secretariat at (202) 501-4755. Please cite FAR case 2006-007.

SUPPLEMENTARY INFORMATION: The Councils published a proposed rule in the Federal Register at 72 FR 7588, February 16, 2007. To allow additional time for interested parties to review the proposed FAR changes, the comment period is extended for an additional 30-days.

Dated: April 17, 2007
Al Matera,
Acting Director,Acquisition Policy Division.

[FR Doc. 07-1985 Filed 4-20-07; 8:45 am]

BILLING CODE 6820-EP-S